DEPARTMENT OF TRANSPORTATION

Federal Aviation Administration

Agency Information Collection Activities Under OMB Review

AGENCY: Federal Aviation Administration (FAA), DOT.

ACTION: Notice.

SUMMARY: In compliance with the Paperwork Reduction Act of 1995 (44 U.S.C. 3501 et seq.), this notice announces that the Information Collection Request (ICR) abstracted below has been forwarded to the Office of Management and Budget (OMB) for extension of the currently approved collections. The ICR describes the nature of the information collection and the expected burden. The Federal Register Notice with a 60-day comment period soliciting comments on the following collections of information was published on August 11, 2003, pages 47628-47629.

DATES: Comments must be submitted on or before April 5, 2004. A comment to OMB is most effective if OMB receives it within 30 days of publication.

FOR FURTHER INFORMATION CONTACT: Judy Street on (202) 267-9895.

SUPPLEMENTARY INFORMATION:

Federal Aviation Administration (FAA)

Title: Certification and Operations: Federal Aviation Regulations Part 125.

Type of Request: Revision of a currently approved collection.

OMB Control Number: 2120-0085.

Form(s): NA.

Affected Public: A total of 163 air carriers and commercial operators.

Abstract: Part A of subtitle VII of the revised title 49 United States Code authorizes the issuance of regulations governing the use of navigable airspace. 14 CFR part 125 will prescribe requirements for leased aircraft, Aviation Service Firms, and Air Travel Clubs. Information shows compliance and the applicant's eligibility.

Estimated Annual Burden Hours: An estimated 61,388 hours annually.

ADDRESSES: Send comments to the Office of Information and Regulatory Affairs, Office of Management and Budget, 725 17th Street, NW., Washington, DC 20503, Attention FAA Desk Officer.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on February 27, 2004.
Judith D. Street,
FAA Information Collection Clearance Officer, Standards and Information Division, APF-100.

[FR Doc. 04-5040 Filed 3-4-04; 8:45 am]

BILLING CODE 4910-13-M